SECURITIES AND EXCHANGE COMMISSION

[File No. 500-1]

American Unity Investments, Inc., China Display Technologies, Inc., China Wind Energy, Inc., Fuda Faucet Works, Inc., Greater China Media & Entertainment Corp., and Xechem International, Inc.; Order of Suspension of Trading

February 2, 2012.

It appears to the Securities and Exchange Commission that there is a lack of current and accurate information concerning the securities of American Unity Investments, Inc. because it has not filed any periodic reports since the period ended December 31, 2007.

It appears to the Securities and Exchange Commission that there is a lack of current and accurate information concerning the securities of China Display Technologies, Inc. because it has not filed any periodic reports since the period ended September 30, 2008.

It appears to the Securities and Exchange Commission that there is a lack of current and accurate information concerning the securities of China Wind Energy, Inc. because it has not filed any periodic reports since the period ended July 31, 2010.

It appears to the Securities and Exchange Commission that there is a lack of current and accurate information concerning the securities of Fuda Faucet Works, Inc. because it has not filed any periodic reports since the period ended December 31, 2008.

It appears to the Securities and Exchange Commission that there is a lack of current and accurate information concerning the securities of Greater China Media & Entertainment Corp., because it has not filed any periodic reports since the period ended December 31, 2008.

It appears to the Securities and Exchange Commission that there is a lack of current and accurate information concerning the securities of Xechem International, Inc. because it has not filed any periodic reports since the period ended March 31, 2007.

The Commission is of the opinion that the public interest and the protection of investors require a suspension of trading in the securities of the above-listed companies. Therefore, it is ordered, pursuant to Section 12(k) of the Securities Exchange Act of 1934, that trading in the securities of the above-listed companies is suspended for the period from 9:30 a.m. EST on February 2, 2012, through 11:59 p.m. EST on February 15, 2012.

By the Commission.
Elizabeth M. Murphy,
Secretary.

[FR Doc. 2012-2693 Filed 2-2-12; 11:15 am]

BILLING CODE 8011-01-P